DEPARTMENT OF TRANSPORTATION

Federal Highway Administration

Environmental Impact Statement: Alameda and Contra Costa Counties, CA

AGENCY: Federal Highway Administration (FHWA), DOT.

ACTION: Notice of withdrawal.

SUMMARY: The FHWA is issuing this notice to advise the public that the Notice of Intent to prepare an Environmental Impact Statement (EIS) for the proposed project to construct a fourth bore to the Caldecott Tunnel between State Route 24/Broadway interchange in the City of Oakland in Alameda County and the State Route 24/Camino Pablo interchange in the City of Orinda in Contra Costa County, California is being withdrawn; and an Environmental Assessment (EA) in lieu of an EIS is being prepared for this proposed highway project.

FOR FURTHER INFORMATION CONTACT: Mr. Leland W. Dong, Project Development Engineer, Federal Highway Administration, California Division, 650 Capitol Mall, Suite 4-100, Sacramento, California 95814, Telephone: (916) 498-5860 or to Ms. Cristina Ferraz, Regional Project Manager, California Department of Transportation, 111 Grand Avenue, Oakland CA 94623-0660, Telephone: (510) 286-3890.

SUPPLEMENTARY INFORMATION: The FHWA, in cooperation with the California Department of Transportation (Caltrans), conducted studies of the potential environmental impacts associated with the proposed highway project to construct a fourth bore to the Caldecott Tunnel between Alameda and Contra Costa Counties, California. A NOI was published in the Federal Register/Volume 67/No. 225/November 21, 2002. Subsequently, during the course of conducting studies and coordinating with regulatory and resource agencies for this proposed project, it was determined that the potential environmental issues that led to issuing the Notice of Intent were not significant. In addition, it was determined that changes to avoid or minimize potential impacts identified in early scoping can be incorporated into the proposed project. Changes to minimizing impacts were achieved by eliminating alternative alignments that had higher impacts, by reducing the number of lanes to either two or three lanes in lieu of four lanes thereby reducing the tunnel footprint, and by evaluating alignments that will not require the acquisition of additional right-of-way or acquisition of recreational or historic properties protected by section 4(f) of the Department of Transportation Act of 1966.

The FHWA has determined that the proposed project is not anticipated to result in significant impacts to the environment; that an EA would be an appropriate environmental document for the project; and that the Notice of Intent for this project is being withdrawn.

The EA will be available for public inspection prior to the public meeting for the proposed project. Comments or questions concerning this proposed project and the determination that an EA is the appropriate environmental document should be directed to the FHWA or Caltrans at the addresses provided above.

(Catalog of Federal Domestic Assistance Program Number 20.205, Highway Research Planning and Construction. The regulations implementing Executive Order 12372 regarding intergovernmental consultation on federal programs and activities apply to this program.)

Issued on: December 13, 2005.
Leland W. Dong,
Project Development Engineer, Federal Highway Administration, Sacramento, California.

[FR Doc. 05-24193 Filed 12-16-05; 8:45am]

BILLING CODE 4910-22-M